DEPARTMENT OF LABOR

Employment and Training Administration

[TA-W-38,814]

Hager Hinge Companies, Consumer Division, Oxford, AL; Dismissal of Application for Reconsideration

Pursuant to 29 CFR 90.18(C) an application for administrative reconsideration was filed with the Director of the Division of Trade Adjustment Assistance for workers at Hager Hinge Companies, Consumer Division, Oxford, Alabama. The application contained no new substantial information which would bear importantly on the Department's determination. Therefore, dismissal of the application was issued.

TA-W-38,814; Hager Hinge Companies, Consumer Division, Oxford, AL (October 26, 2001)

Signed at Washington, DC this 30th day of October, 2001.
Edward E. Tomchick,
Director, Division of Trade Adjustment Assistance.

[FR Doc. 01-27805 Filed 11-5-01; 8:45 am]

BILLING CODE 4510-30-M